NATIONAL AERONAUTICS AND SPACE ADMINISTRATION

[Notice: 15-098]

NASA Advisory Council; Institutional Committee; Meeting.

AGENCY: National Aeronautics and Space Administration.

ACTION: Notice of meeting.

SUMMARY: In accordance with the Federal Advisory Committee Act (Pub. L. 92-463), the National Aeronautics and Space Administration announces a meeting of the Institutional Committee of the NASA Advisory Council (NAC). This committee reports to the NAC.

DATES: Tuesday, November 17, 2015, 9:00 a.m.-5:00 p.m., Local Time; and Wednesday, November 18, 2015, 9:00 a.m.-4:00 p.m.; Local Time.

ADDRESSES: On Tuesday, November 17, 2015, the Institutional Committee meeting will be held at NASA Headquarters, Room 1Q39 [Glennan Conference Room], 300 E Street SW., Washington, DC 20546. On Wednesday, November 18, 2015, the Institutional Committee meeting will be held at NASA Goddard Space Flight Center, Building 1, Room E100, 8800 Greenbelt Road, Greenbelt, MD 20771.

FOR FURTHER INFORMATION CONTACT: Mr. Todd Mullins, NAC Institutional Committee Executive Secretary, NASA Headquarters, Washington, DC 20546; phone: (202) 358-3831; email: todd.mullins@nasa.gov.

SUPPLEMENTARY INFORMATION: The meeting will be open to the public up to the seating capacity of the room. This meeting is also available telephonically and by WebEx. You must use a touch-tone phone to participate in this meeting. Any interested person may dial the toll free access number (844) 467-6272 or toll access number (720) 259-6462, and then the numeric participant passcode: 180093 followed by the # sign. To join via WebEx on November 17, the Web link is https://nasa.webex.com/, the meeting number is 992 539 046 and the password is Meeting2015! (Password is case sensitive.) To join via WebEx on November 18, the link is https://nasa.webex.com/, the meeting number is 995 907 089 and the password is Meeting2015! (Password is case sensitive.) NOTE: If dialing in, please “mute” your telephone. The agenda for the meeting includes the following topics:

• Business Systems Assessment (BSA) Status

• NASA Facilities

• NASA IT Security

• NASA Goddard Space Flight Center Overview

• NASA Pathways Program

Attendees will be requested to sign a register and to comply with NASA Headquarters and NASA Goddard Space Flight Center (GSFC) security requirements, including the presentation of a valid picture ID before receiving access to NASA Headquarters and GSFC. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Foreign nationals attending this meeting will be required to provide a copy of their passport and visa in addition to providing the following information no less than 10 working days prior to the meeting: Full name; gender; date/place of birth; citizenship; passport information (number, country, telephone); visa information (number, type, expiration date); employer/affiliation information (name of institution, address, country, telephone); title/position of attendee. To expedite admittance, attendees with U.S. citizenship and Permanent Residents (green card holders) can provide full name and citizenship status no less than 3 working days prior to the meeting by contacting Ms. Mary Dunn, via email at mdunn@nasa.gov or by telephone at (202) 358-2789. It is imperative that the meeting be held on this date to accommodate the scheduling priorities of the key participants.

Patricia D. Rausch,
Advisory Committee Management Officer, National Aeronautics and Space Administration.

[FR Doc. 2015-26787 Filed 10-21-15; 8:45 am]

BILLING CODE 7510-13-P